Title 3—

The President

Proclamation 8850 of August 31, 2012

National Alcohol and Drug Addiction Recovery Month, 2012

By the President of the United States of America

A Proclamation

Every day, millions of Americans with substance use disorders commit to managing their health by maintaining their recovery from drug or alcohol addiction. People in recovery are not strangers: they are our family members, friends, colleagues, and neighbors. During National Alcohol and Drug Addiction Recovery Month, we recognize their strength and resilience. In partnership with Americans in recovery, let us rededicate ourselves to combatting prejudice surrounding addiction, removing barriers to recovery, and standing with all those seeking lives free from substance use.

My Administration is committed to advancing evidence-based recovery solutions. Over the past 3 years, we have worked to strengthen substance abuse prevention and treatment programs, and to support Americans in recovery. We have taken steps to identify and remove laws, policies, and practices that impede recovery. And as part of our 2012 National Drug Control Strategy, we are promoting early intervention and taking action to break the cycle of drug abuse and incarceration.

Drug and alcohol abuse continue to take a tragic toll on millions of lives across our country. Yet, while more remains to be done, men and women across our country are making great strides. This month, let us encourage their progress, celebrate the transformative power of recovery, and thank the many Americans who, often strengthened by their own experiences, are working to improve the health and safety of our communities.

NOW, THEREFORE, I, BARACK OBAMA, President of the United States of America, by virtue of the authority vested in me by the Constitution and the laws of the United States, do hereby proclaim September 2012 as National Alcohol and Drug Addiction Recovery Month. I call upon the people of the United States to observe this month with appropriate programs, ceremonies, and activities.

IN WITNESS WHEREOF, I have hereunto set my hand this thirty-first day of August, in the year of our Lord two thousand twelve, and of the Independence of the United States of America the two hundred and thirty-seventh.

[FR Doc. 2012-22145

Filed 9-5-12; 11:15 am]

Billing code 3295-F2-P